DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Export and Reexport Controls for Iraq.

OMB Control Number: 0694-0129.

Form Number(s): None.

Type of Request: Regular submission.

Burden Hours: 19.

Number of Respondents: 5.

Average Hours per Response: 3 to 3½ hours.

Needs and Uses: A company wishing to export or reexport commodities and technical data for infrastructure rebuilding projects in Iraq is required to submit a Special Iraq Reconstruction License package to BIS. These documents are used as the basis for decisions to grant licenses for export or reexport of items covered by the Commerce control list.

Affected Public: Business and other for-profit organizations.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285 or via the Internet at David_Rostker@omb.eop.gov.

Dated: March 5, 2008.
Gwellnar Banks,
Management Analyst, Office of the Chief Information Officer.

[FR Doc. E8-4637 Filed 3-7-08; 8:45 am]

BILLING CODE 3510-33-P